DEPARTMENT OF HOMELAND SECURITY

Federal Emergency Management Agency

[Docket ID FEMA-2024-0002; Internal Agency Docket No. FEMA-B-2407]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
California: Solano | Unincorporated areas of Solano County (23-09-0577P). | Bill Emlen, Solano County Administrator, 675 Texas Street, Suite 6500, Fairfield, CA 94533. | Solano County Department of Resource Management, Building and Safety Division, 675 Texas Street, Suite 6500, Fairfield, CA 94533. | https://msc.fema.gov/portal/advanceSearch. | Apr. 18, 2024 | 060631
Colorado:
Arapahoe | City of Centennial (23-08-0500P). | The Honorable Stephanie Piko, Mayor, City of Centennial, 13133 East Arapahoe Road, Centennial, CO 80112. | Southeast Metro Stormwater Authority, 7437 South Fairplay Street, Centennial, CO 80112. | https://msc.fema.gov/portal/advanceSearch. | Mar. 15, 2024 | 080315
Boulder | City of Boulder (23-08-0335P). | The Honorable Aaron Brockett, Mayor, City of Boulder, 1777 Broadway, Boulder, CO 80302. | Municipal Building Plaza, 1777 Broadway, Boulder, CO 80302. | https://msc.fema.gov/portal/advanceSearch. | Mar. 18, 2024 | 080024
Boulder | Unincorporated areas of Boulder County (23-08-0335P). | Claire Levy, Chair, Boulder County Board of Commissioners, 1325 Pearl Street, 3rd Floor, Boulder, CO 80302. | Boulder County Transportation Department, 2525 13th Street, Suite 203, Boulder, CO 80304. | https://msc.fema.gov/portal/advanceSearch. | Mar. 18, 2024 | 080023
Douglas | Town of Parker (22-08-0454P). | The Honorable Jeff Toborg, Mayor, Town of Parker, 20120 East Main Street, Parker, CO 80138. | Town Hall, 20120 East Main Street, Parker, CO 80138. | https://msc.fema.gov/portal/advanceSearch. | Mar. 15, 2024 | 080310
Florida:
Charlotte | Unincorporated areas of Charlotte County (22-04-3269P). | Bill Truex, Chair, Charlotte County Board of Commissioners, 18500 Murdock Circle, Suite 536, Port Charlotte, FL 33948. | Charlotte County Building Department, 18400 Murdock Circle, Port Charlotte, FL 33948. | https://msc.fema.gov/portal/advanceSearch. | Apr. 2, 2024 | 120061
Charlotte | Unincorporated areas of Charlotte County (23-04-3784P). | Bill Truex, Chair, Charlotte County Board of Commissioners, 18500 Murdock Circle, Suite 536, Port Charlotte, FL 33948. | Charlotte County Building Department, 18400 Murdock Circle, Port Charlotte, FL 33948. | https://msc.fema.gov/portal/advanceSearch. | Mar. 25, 2024 | 120061
Georgia:
Cobb | City of Smyrna (23-04-2440P). | The Honorable Derek Norton, Mayor, City of Smyrna, 2800 King Street, Smyrna, GA 30080. | Engineering Department, 2190 Atlanta Road, Smyrna, GA 30080. | https://msc.fema.gov/portal/advanceSearch. | Apr. 2, 2024 | 130057
Fulton | City of Atlanta (23-04-2440P). | The Honorable Andre Dickens, Mayor, City of Atlanta, 5563 Trinity Avenue Southwest, Atlanta, GA 30303. | City Hall, 5563 Trinity Avenue Southwest, Atlanta, GA 30303. | https://msc.fema.gov/portal/advanceSearch. | Apr. 2, 2024 | 135157
Massachusetts: Essex | City of Gloucester (23-01-0759P). | The Honorable Greg Varga, Mayor, City of Gloucester, 9 Dale Avenue, Gloucester, MA 01930. | City Hall, 3 Pond Road, 2nd Floor, Gloucester, MA 01930. | https://msc.fema.gov/portal/advanceSearch. | Apr. 8, 2024 | 250082
North Carolina:
Alamance | City of Burlington (24-04-0520P) | The Honorable James B. Butler, Mayor, City of Burlington, P.O. Box 1358, Burlington, NC 27216. | Engineering Department, 425 South Lexington Avenue, Burlington, NC 27215. | https://msc.fema.gov/portal/advanceSearch. | Apr. 5, 2024 | 370002
Gaston | City of Belmont (23-04-2570P). | The Honorable Richard Turner, Mayor, City of Belmont, 1401 East Catawba Street, Belmont, NC 28012. | Planning and Zoning Department, 1401 East Catawba Street, Belmont, NC 28012. | https://msc.fema.gov/portal/advanceSearch. | Mar. 12, 2024 | 370320
Orange | Town of Chapel Hill (23-04-0988P). | The Honorable Pam Hemminger, Mayor, Town of Chapel Hill, 405 Martin Luther King Jr. Boulevard, Chapel Hill, NC 27514. | Planning Department, 405 Martin Luther King Jr. Boulevard, Chapel Hill, NC 27514. | https://msc.fema.gov/portal/advanceSearch. | April 11, 2024 | 370180
Union | Unincorporated areas of Union County (23-04-3291P). | J.R. Rowell, Chair, Union County Board of Commissioners, 500 North Main Street, Suite 914, Monroe, NC 28112. | Union County Planning and Development Department, 500 North Main Street, Suite 70, Monroe, NC 28112. | https://msc.fema.gov/portal/advanceSearch. | Mar. 27, 2024 | 370234
Union | Unincorporated areas of Union County (24-04-0519P). | J. R. Rowell, Chair, Union County Board of Commissioners, 500 North Main Street, Suite 914, Monroe, NC 28112. | Union County Planning and Development Department, 500 North Main Street, Suite 70, Monroe, NC 28112. | https://msc.fema.gov/portal/advanceSearch. | Apr. 8, 2024 | 370234
Texas:
Bexar | City of San Antonio (22-06-2005P). | The Honorable Ron Nirenberg, Mayor, City of San Antonio, P.O. Box 839966, San Antonio, TX 78283. | Transportation and Capital Improvements Department, Storm Water Division, 1901 South Alamo Street, 2nd Floor, San Antonio, TX 78204. | https://msc.fema.gov/portal/advanceSearch. | Mar. 18, 2024 | 480045
Bexar | Unincorporated areas of Bexar County (23-06-1299P). | The Honorable Peter Sakai, Bexar County Judge, 101 West Nueva Street, 10th Floor, San Antonio, TX 78205. | Bexar County Public Works Department, 1948 Probandt Street, San Antonio, TX 78214. | https://msc.fema.gov/portal/advanceSearch. | Mar. 11, 2024 | 480035
Brazos | City of Bryan (23-06-2310P). | The Honorable Bobby Gutierrez, Mayor, City of Bryan, P.O. Box 1000, Bryan, TX 77805. | City Hall, 300 South Texas Avenue, Bryan, TX 77805. | https://msc.fema.gov/portal/advanceSearch. | Mar. 27, 2024 | 480082
Collin | City of Plano (23-06-1831P). | The Honorable John B. Muns, Mayor, City of Plano, 1520 K Avenue, Plano, TX 75074. | Engineering Department, 1520 K Avenue, Plano, TX 75074. | https://msc.fema.gov/portal/advanceSearch. | Apr. 15, 2024 | 480140
Comal | Unincorporated areas of Comal County (23-06-1468P). | The Honorable Sherman Krause, Comal County Judge, 150 North Seguin Avenue, New Braunfels, TX 78130. | Comal County Courthouse, 150 North Seguin Avenue, New Braunfels, TX 78130. | https://msc.fema.gov/portal/advanceSearch. | Apr. 12, 2024 | 485463
Denton | City of Frisco (23-06-1466P). | The Honorable Jeff Cheney, Mayor, City of Frisco, 6101 Frisco Square Boulevard, Frisco, TX 75034. | George A. Purefoy Municipal Center, 6101 Frisco Square Boulevard, Frisco, TX 75034. | https://msc.fema.gov/portal/advanceSearch. | Apr. 15, 2024 | 480134
Denton | Town of Providence Village (23-06-1251P). | The Honorable Linda Inman, Mayor, Town of Providence Village, 1755 Main Street, Providence Village, TX 76227. | Development Services Department, 1755 Main Street, Providence Village, TX 76227. | https://msc.fema.gov/portal/advanceSearch. | May 1, 2024 | 480803
Denton | Unincorporated areas of Denton County (23-06-1599P). | The Honorable Andy Eads, Denton County Judge, 1 Courthouse Drive, Suite 3100, Denton, TX 76208. | Development Services Department, 3900 Morse Street, Denton, TX 76208. | https://msc.fema.gov/portal/advanceSearch. | May 6, 2024 | 480774
Harris | Unincorporated areas of Harris County (23-06-0151P). | The Honorable Lina Hidalgo, Harris County Judge, 1001 Preston Street, Suite 911, Houston, TX 77002. | Harris County Permit Office, 1111 Fannin Street, 8th Floor, Houston, TX 77002. | https://msc.fema.gov/portal/advanceSearch. | Apr. 15, 2024 | 480287
Travis | City of Jonestown (23-06-1536P). | The Honorable Paul Johnson, Mayor, City of Jonestown, 18649 F.M. 1431, Suite 4A, Jonestown, TX 78645. | City Hall, 18649 F.M. 1431, Suite 4A, Jonestown, TX 78645. | https://msc.fema.gov/portal/advanceSearch. | Apr. 15, 2024 | 481597
Travis | City of Leander (23-06-1536P). | Isaac Turner, City of Leander Interim Manager, P.O. Box 319, Leander, TX 78646. | Engineering Department, 201 North Brushy Street, Leander, TX 78646. | https://msc.fema.gov/portal/advanceSearch. | Apr. 15, 2024 | 481536
Travis | City of Pflugerville (23-06-0785P). | The Honorable Victor Gonzales, Mayor, City of Pflugerville, P.O. Box 589, Pflugerville, TX 78691. | Planning and Development Services Center, 100 West Main Street, Pflugerville, TX 78691. | https://msc.fema.gov/portal/advanceSearch. | Mar. 18, 2024 | 481028
Travis | Unincorporated areas of Travis County (23-06-0785P). | The Honorable Andy Brown, Travis County Judge, P.O. Box 1748, Austin, TX 78767. | Travis County Transportation and Natural Resources Department, 700 Lavaca Street, 5th Floor, Austin, TX 78701. | https://msc.fema.gov/portal/advanceSearch. | Mar. 18, 2024 | 481026
Webb | City of Laredo (22-06-0300P). | The Honorable Victor D. Treviño, Mayor, City of Laredo, 1110 Houston Street, 3rd Floor, Laredo, TX 78040. | Planning and Zoning Department, 1413 Houston Street, Laredo, TX 78040. | https://msc.fema.gov/portal/advanceSearch. | Mar. 21, 2024 | 480651

[FR Doc. 2024-03180 Filed 2-14-24; 8:45 am]

BILLING CODE 9110-12-P